DEPARTMENT OF THE INTERIOR

Bureau of Land Management

[CA-680-04-1430-ES; CACA-13189]

Termination of a Recreation and Public Purposes (R&PP) Classification and an Order Providing for Opening of Land; California

AGENCY: Bureau of Land Management (BLM), Interior.

ACTION: Order.

SUMMARY: This order terminates a BLM R&PP classification affecting 240 acres of public land near Lucerne Valley, California. Termination of the classification will open the land to the public land laws generally, including the mining laws. The land has been and remains open to mineral leasing.

DATES: The termination/opening order is effective April 7, 2004.

ADDRESSES: Bureau of Land Management, Barstow Field Office, 2601 Barstow Road, Barstow, California 92311.

FOR FURTHER INFORMATION CONTACT: Richard Rotte, Realty Specialist, at the address above or by telephone at (760) 252-6026.

SUPPLEMENTARY INFORMATION: The land is described as follows:

San Bernardino Meridian, California

T. 4 N., R. 2 E.,

Sec. 18: E½SE¼;

Sec. 22: NE¼;

The area described contains 240 acres in San Bernardino County, California.

By virtue of the authority vested in the Secretary of the Interior by the R&PP Act of June 14, 1926, as amended (43 U.S.C. 869 et seq.), it is ordered as follows:

1. Pursuant to the regulations in 43 CFR 2091.7-1(b)(1) and the authority delegated by BLM Manual Section 1203 (43 FR 85), the classification decision of July 15, 1983, which classified 280 acres of public land as suitable for recreation and public purposes under the Act of June 14, 1926, as amended (43 U.S.C. 869 et seq.), under Serial Number CACA13189, that 240 acre portion which was not patented is hereby revoked.

2. At 8 a.m. on April 7, 2004, the land will be opened to the operation of the public land laws generally, subject to valid existing rights, the provisions of existing withdrawals, other segregations of record, and the requirements of applicable law. All valid application received at or prior to 8 am on April 7, 2004, shall be considered as simultaneous filed at that time. Those received thereafter shall be considered in the order of filing.

3. At 8 a.m. on April 7, 2004, the land will be opened to location and entry under the United States mining laws, subject to valid existing rights; the provisions of existing withdrawals; other segregations of record; and the requirements of applicable law. Appropriation of any of the land described in this order under the general mining laws prior to the date and time of restoration is unauthorized. State law governs acts required to establish a location and to initiate a right of possession where not in conflict with Federal law. BLM will not intervene in disputes between rival locators over possessory rights since Congress has provided for such determinations in local courts.

Dated: January 12, 2004.
Harold E. Johnson,
Acting Field Manager, Barstow Field Office.

[FR Doc. 04-5095 Filed 3-5-04; 8:45 am]

BILLING CODE 4310-40-P